DEPARTMENT OF AGRICULTURE

Food Safety and Inspection Service

9 CFR Part 590

[Docket No. 99-012E]

RIN 0583-AC71

Fee Increase for Egg Products Inspection—Year 2000; Extension of comment period.

AGENCY: Food Safety and Inspection Service, USDA.

ACTION: Proposed rule; reopening of comment period.

SUMMARY: The Food Safety and Inspection Service (FSIS) is extending the comment period for the proposed rule, “Fee Increase for Egg Products Inspection—Year 2000” for an additional 30 days. This action is in response to a request to allow additional time for comment in order to compile more complete data regarding the impact of the proposed fee.

DATES: Comments must be received by June 1, 2000.

ADDRESSES: Submit one original and two copies of written comments to FSIS Docket Clerk, Docket No. 99-012P, U.S. Department of Agriculture, Food Safety and Inspection Service, Room 102, Cotton Annex, 300 12th Street, SW., Washington, DC 20250-3700. All comments submitted in response to the proposal will be available for public inspection in the Docket Clerk's Office between 8:30 and 4:30 p.m., Monday through Friday.

FOR FURTHER INFORMATION CONTACT: For information concerning policy issues, contact Daniel Engeljohn, Ph.D., Director, Regulations Development and Analysis Division, Office of Policy, Program Development, and Evaluation, FSIS, U.S. Department of Agriculture, Room 112, Cotton Annex, 300 12th Street, SW., Washington, DC 20250, (202) 720-5627, fax number (202) 690-0486.

For information concerning fee development, contact Michael B. Zimmerer, Director, Financial Management Division, Office of Management, FSIS, U.S. Department of Agriculture, Room 2130-S, 1400 Independence Avenue, SW., Washington, DC 20250, (202) 720-3552, fax number (202) 720-3552.

SUPPLEMENTARY INFORMATION:

Background

FSIS is responsible for the inspection of egg products to protect the health and welfare of consumers by assuring that egg products are wholesome, not adulterated, and properly labeled and packaged.

While the cost of mandatory inspection is borne by FSIS, plants pay for inspection services performed on holidays or on an overtime basis. There has not been a change in overtime and holiday fees for egg products inspection services since the transfer of program functions from AMS to FSIS in May 1995. AMS established and implemented the current fees in November 1994. These fees reflect only the costs of inspection at that time and are insufficient to recover FSIS's current costs for the delivery of overtime and holiday inspection service.

On March 3, 2000, FSIS published a proposed rule (65 FR 11486) to increase the fees it charges egg products plants for providing overtime and holiday inspection services. FSIS is also proposing to amend 9 CFR 590.130 by deleting the reference to regulations governing the collection of fees associated with the voluntary grading of eggs. Interested parties were given 60 days to submit comments on the proposal.

Now in response to a request to extend the comment period for the proposed rule, FSIS has decided to extend the comment period an additional 30 days. The request included preliminary impact data to support the statement that additional time was needed to complete the data collection effort.

Additional Public Notification

Public involvement in all segments of rulemaking and policy development is important. Consequently, in an effort to better ensure that minorities, women, and persons with disabilities are aware of this notice, FSIS will announce and provide copies of this Federal Register publication in its constituent update.

The Agency provides a weekly FSIS Constituent Update via fax to over 300 organizations and individuals. In addition, the update is available on line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience than would be otherwise possible.

For more information or to be added to the constituent fax list, fax your request to the Congressional and Public Affairs Office, at (202) 720-5704.

Done in Washington, DC on: May 2, 2000.
Thomas J. Billy,
Administrator.

[FR Doc. 00-11298 Filed 5-4-00; 8:45 am]

BILLING CODE 3410-DM-P